DEPARTMENT OF HEALTH AND HUMAN SERVICES

Centers for Disease Control and Prevention

[60Day-13-13TY]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Survey of Community-Based Supports for Healthy Eating and Active Living—New—National Center for Chronic Disease Prevention and Health Promotion (NCCDPHP), Centers for Disease Control and Prevention (CDC).

Background and Brief Description

According to the Dietary Guidelines for Americans and Physical Activity Guidelines for Americans, both published by the federal government, the consumption of a healthful diet and regular physical activity are important behaviors for the prevention of obesity and other chronic diseases.

Behavior change is made at the level of the individual. However, models such as the socioecological model suggest that health and behavior are determined by many factors or “levels of influence” that extend beyond the individual. There is growing consensus among experts that one of these factors is the environment that surrounds the individual. Characteristics of the environment can support or discourage the choices individuals make. Within communities, the establishment of policies by local governments is an initial step to changing the environments that support healthier behaviors for diets and physical activity.

Currently, little is known about the environmental and policy supports for healthful diets and regular physical activity within a community and how these supports are changing across time. As a result, CDC plans to conduct a survey to address this gap in knowledge. The survey will be administered to a nationally representative sample of 4,484 communities. Respondents will be city planners/managers in these communities. Information will be collected about the following topics: community-wide planning efforts for healthy eating and active living, the built environment and policies that support physical activity, and policies and practices that support access to healthy food and healthy eating. Data will be collected using a secure, web-based survey data collection system, with telephone and mail follow-up for non-response.

The proposed survey content and data collection procedures incorporate lessons learned during an initial pilot study (OMB No. 0920-0934, “Pilot Study of Community-Based Surveillance and Supports for Healthy Eating/Active Living”, expiration 5-31-2013).

Assessment of policy and environmental supports for healthful eating and physical activity will serve multiple uses. First, the collected data will describe the characteristics of communities that have specific policy and practice supports favorable for healthy diets and regular physical activity. Second, the collected data will help identify the extent to which communities implement strategies consistent with current national recommendations. Third, local agencies may use the data collected to consider how they compare nationally or with other municipalities of a similar geography, population size, or urbanicity. Fourth, this information can help guide communities in their local decision-making efforts on feasible policy and environmental interventions or solutions for healthy behaviors or choices. Finally, information collected through this survey may serve as a baseline to track community-level policies and practices across time.

Participation is voluntary and there are no costs to respondents other than their time.

Estimated Annualized Burden Hours
Type of respondent | Form name | Number of respondents | Number of responses per respondent | Average burden per response (in hr) | Total Burden (in hrs)
City/Town Planner or Manager | Survey of Community-Based Policy and Environmental Supports for Healthy Eating and Active Living | 4,484 | 1 | 30/60 | 2,242
City/Town Planner or Manager | Telephone Non-response Follow-up Contact Script | 4,484 | 5 | 5/60 | 1,868
Total |  |  |  |  | 4,110

Ron A. Otten,
Director, Office of Scientific Integrity, Office of the Associate Director for Science, Office of the Director, Centers for Disease Control and Prevention.

[FR Doc. 2013-13039 Filed 5-31-13; 8:45 am]

BILLING CODE 4163-18-P